DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday, April 15, 2014, from 1:00 p.m. to 5:20 p.m. EDT and Wednesday, April 16, 2014, from 8:00 a.m. to 12:30 p.m. EDT. These times and the agenda topics described below are subject to change. Please refer to the Web page http://www.sab.noaa.gov/Meetings/meetings.html for the most up-to-date meeting agenda.

Place: The meeting will be held at the Sheraton Silver Spring, 8777 Georgia Ave., Silver Spring, Maryland 20910. Please check the SAB Web site http://www.sab.noaa.gov/Meetings/meetings.html for directions to the meeting location.

Status: The meeting will be open to public participation with a 15-minute public comment period on April 15 from 5:05-5:20 p.m. (check Web site to confirm time). The SAB expects that public statements presented at its meetings will not be repetitive of previously submitted verbal or written statements. In general, each individual or group making a verbal presentation will be limited to a total time of two (2) minutes. Individuals or groups planning to make a verbal presentation should contact the SAB Executive Director by April 11, 2014, to schedule their presentation. Written comments should be received in the SAB Executive Director's Office by April 11, 2014, to provide sufficient time for SAB review. Written comments received by the SAB Executive Director after April 11, 2014, will be distributed to the SAB, but may not be reviewed prior to the meeting date. Seating at the meeting will be available on a first-come, first-served basis.

Special Accommodations: These meetings are physically accessible to people with disabilities. Requests for special accommodations may be directed no later than 12:00 p.m. on April 11, 2014, to Dr. Cynthia Decker, SAB Executive Director, SSMC3, Room 11230, 1315 East-West Hwy., Silver Spring, MD 20910; Email: Cynthia.Decker@noaa.gov.

Matters To Be Considered: The meeting will include the following topics: (1) Ecosystem Sciences and Management Working Group (ESMWG Ecosystem-Based Fisheries Management Recommendations (2) Review Report on the Cooperative Institute for Marine Ecosystems and Climate (CIMEC3) NOAA Observing System Integrated Analysis Capability II (NOSIA II); (4) NOAA Science Talk: Improving Prediction of Extreme Weather Events using Multi-Model Ensembles; (5) NOAA Response to the SAB Portfolio Review Task Force Report; (6) NOAA Response to the SAB External Review of the Ocean Exploration Program; (7) NOAA Science Career Track; (8) Ecosystem Sciences and Management Working Group (ESMWG) Coastal Habitat Restoration Recommendations; (9) NOAA Update and (10) Working Group Updates.

FOR FURTHER INFORMATION CONTACT: Dr. Cynthia Decker, Executive Director, Science Advisory Board, NOAA, Rm. 11230, 1315 East-West Highway, Silver Spring, Maryland 20910. (Phone: 301-734-1156, Fax: 301-713-1459). Email: Cynthia.Decker@noaa.gov; or visit the NOAA SAB Web site at http://www.sab.noaa.gov.

Dated: March 24, 2014.
Jason Donaldson,
Chief Financial Officer, Office of Oceanic and Atmospheric Research, National Oceanic and Atmospheric Administration.

[FR Doc. 2014-07000 Filed 3-27-14; 8:45 am]

BILLING CODE 3510-KD-P